DEPARTMENT OF ENERGY

Federal Energy Regulatory Commission

[Project Nos. P-13404-002, P-13405-002, P-13406-002, P-13407-002, P-13408-002, P-13411-002, and P-13412-002]

Clean River Power MR-1, LLC; Clean River Power MR-2, LLC; Clean River Power MR-3, LLC; Clean River Power MR-5, LLC; Clean River Power MR-6, LLC; Clean River Power MR-7, LLC; Clean River Power MR-8, LLC; Notice of Applications Tendered for Filing With the Commission and Soliciting Additional Study Requests

a. Type of Applications: Original Major Licenses.

b. Project Nos.: 13404-002, 13405-002, 13406-002, 13407-002, 13408-002, 13411-002, and 13412-002.

c. Dated Filed: October 31, 2012.

d. Applicants: Clean River Power MR-1, LLC; Clean River Power MR-2, LLC; Clean River Power MR-3, LLC; Clean River Power MR-5, LLC; Clean River Power MR-6, LLC; Clean River Power MR-7, LLC; and Clean River Power MR-8, LLC (Clean River Power), subsidiaries of Free Flow Power Corporation.

e. Names of Projects: Beverly Lock and Dam Project, P-13404-002; Devola Lock and Dam Project, P-13405-002; Malta/McConnelsville Lock and Dam Project, P-13406-002; Lowell Lock and Dam Project, P-13407-002; Philo Lock and Dam Project, P-13408-002; Rokeby Lock and Dam Project, P-13411-002; and Zanesville Lock and Dam Project, P-13412-002.

f. Location: At existing locks and dams formally owned and operated by the U.S. Army Corps of Engineers but now owned and operated by the State of Ohio on the Muskingum River in Washington, Morgan, and Muskingum counties, Ohio (see table below for specific project locations).

Project No. | Projects | County(s) | City/town
P-13404 | Beverly Lock and Dam | Washington | Upstream of the city of Beverly.
P-13405 | Devola Lock and Dam | Washington | Near the city of Devola.
P-13406 | Malta/McConnelsville Lock and Dam | Morgan | Southern shore of the town of McConnelsville.
P-13407 | Lowell Lock and Dam | Washington | West of the city of Lowell.
P-13408 | Philo Lock and Dam | Muskingum | North of the city of Philo.
P-13411 | Rokeby Lock and Dam | Morgan | Near the city of Rokeby.
P-13412 | Zanesville Lock and Dam | Muskingum | Near the center of the city of Zanesville.

g. Filed Pursuant to: Federal Power Act, 16 U.S.C. 791(a)-825(r).

h. Applicant Contacts: Ramya Swaminathan, Chief Operating Officer, Free Flow Power Corporation, 239 Causeway Street, Suite 300, Boston, MA 02114; or at (978) 283-2822.

Daniel Lissner, General Counsel, Free Flow Power Corporation, 239 Causeway Street, Suite 300, Boston, MA 02114; or at (978) 283-2822.

Alan Topalian, Regulatory Attorney, Free Flow Power Corporation, 239 Causeway Street, Suite 300, Boston, MA 02114; or at (978) 283-2822.

i. FERC Contact: Aaron Liberty at (202) 502-6862; or email at aaron.liberty@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: December 31, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The applications are not ready for environmental analysis at this time.

n. The proposed Beverly Lock and Dam Water Power Project would be located on the Muskingum River at river mile (RM) 24.6, and consist of the following new facilities: (1) A 37-foot-long, 52-foot-high, 75-foot-wide intake structure with 2-inch clear bar spacing trash racks; (2) a 160-foot by 75-foot powerhouse located downstream of the dam on the left bank of the Muskingum River; (3) two turbine-generator units providing a combined installed capacity of 3.0 megawatts (MW); (4) a 65-foot-long, 75-foot-wide draft tube section; (5) a 40-foot by 40-foot substation; (6) a 970-foot-long, three-phase, overhead 69-kilovolt (kV) transmission line to connect the project substation to the local utility distribution lines; and (7) appurtenant facilities. The average annual generation would be about 17,853 megawatt-hours (MWh).

The proposed Devola Lock and Dam Water Power Project would be located at RM 5.8, and consist of the following new facilities: (1) A 160-foot-long, 66-foot-high, 80-foot-wide intake structure with 2-inch clear bar spacing trash racks; (2) a 160-foot by 80-foot powerhouse located on the bank of the Muskingum River opposite the existing lock; (3) two turbine-generator units providing a combined installed capacity of 4.0 MW; (4) a 65-foot-long, 80-foot-wide draft tube section; (5) a 40-foot by 40-foot substation; (6) a 3,600-foot-long, three-phase, overhead 69-kV transmission line to connect the project substation to the local utility distribution lines; and (7) appurtenant facilities. The average annual generation would be about 20,760 MWh.

The proposed Malta Lock and Dam Water Power Project would be located at RM 49.4, and consist of the following new facilities: (1) A 37-foot-long, 52-foot-high, 80-foot-wide intake structure with 2-inch clear bar spacing trash racks; (2) a 160-foot by 80-foot powerhouse located adjacent to the right bank of the dam; (3) two turbine-generator units providing a combined installed capacity of 4.0 MW; (4) a 65-foot-long, 80-foot-wide draft tube section; (5) a 40-foot by 40-foot substation; (6) a 1,500-foot-long, three-phase, overhead 69-kV transmission line to connect the project substation to the local utility distribution lines; and (7) appurtenant facilities. The average annual generation would be about 21,895 MWh.

The proposed Lowell Lock and Dam Water Power Project would be located at RM 13.6, and consist of the following new facilities: (1) A 37-foot-long, 52-foot-high, 80-foot-wide intake structure with 2-inch clear bar spacing trash racks; (2) a 160-foot by 75-foot powerhouse located adjacent to the left bank of the dam; (3) two turbine-generator units providing a combined installed capacity of 5 MW; (4) a 65-foot-long, 75-foot-wide draft tube section; (5) a 40-foot by 40-foot substation; (6) a 1,200-foot-long, three-phase, overhead 69-kV transmission line to connect the project substation to the local utility distribution lines; and (7) appurtenant facilities. The average annual generation would be about 30,996 MWh.

The proposed Philo Lock and Dam Water Power Project would be located at RM 68.6, and consist of the following new facilities: (1) A 40-foot-long, 20-foot-high flap gate bay; (2) a 37-foot-long, 52-foot-high, 80-foot-wide intake structure with 2-inch clear bar spacing trash racks; (3) a 160-foot by 75-foot powerhouse located on the bank of the Muskingum River opposite the existing lock; (4) two turbine-generator units providing a combined installed capacity of 3 MW; (5) a 65-foot-long, 80-foot-wide draft tube section; (6) a 40-foot by 40-foot substation; (7) a 1,600-foot-long, three-phase, overhead 69-kV transmission line to connect the project substation to the local utility distribution lines; and (8) appurtenant facilities. The average annual generation would be about 15,957 MWh.

The proposed Rokeby Lock and Dam Water Power Project would be located at RM 57.4, and consist of the following new facilities: (1) A 37-foot-long, 52-foot-high, 80-foot-wide intake structure with 2-inch clear bar spacing trash racks; (2) a 160-foot by 75-foot powerhouse located on the bank of the Muskingum River opposite the existing lock; (3) two turbine-generator units providing a combined installed capacity of 4 MW; (4) a 65-foot-long, 75-foot-wide draft tube section; (5) a 40-foot by 40-foot substation; (6) a 490-foot-long, three-phase, overhead 69-kV transmission line to connect the project substation to the local utility distribution lines; and (7) appurtenant facilities. The average annual generation would be about 17,182 MWh.

The proposed Zanesville Lock and Dam Water Power Project would be located at RM 77.4, and consist of the following new facilities: (1) A 135-foot-long, 16-foot-high, 30-foot-wide intake structure with 2-inch clear bar spacing trash racks; (2) two 10-foot diameter, 62-foot-long buried steel penstocks; (3) a 45-foot by 37-foot powerhouse located approximately 2,750 feet downstream of the dam; (4) two turbine-generator units providing a combined installed capacity of 2 MW; (5) a 31-foot-long, 37-foot-wide draft tube; (6) a 40-foot by 40-foot substation; (7) a 400-foot-long, three-phase, overhead 69-kV transmission line to connect the project substation to the local utility distribution lines; and (8) appurtenant facilities. The average annual generation would be about 12,295 MWh.

The applicant proposes to operate all seven projects in a run-of-river mode, such that the water surface elevations within each project impoundment would be maintained at the crest of each respective dam spillway.

o. A copy of the applications are available for review at the Commission in the Public Reference Room or may be viewed on the Commission's Web site at http://www.ferc.gov using the “eLibrary” link. Enter the docket number excluding the last three digits in the docket number field to access the document. For assistance, contact FERC Online Support. Copies are also available for inspection and reproduction at the address in item h above.

You may also register online at http://www.ferc.gov/docs-filing/esubscription.asp to be notified via email of new filings and issuances related to this or other pending projects. For assistance, contact FERC Online Support.

p. Procedural schedule: The applications will be processed according to the following preliminary Hydro Licensing Schedule. Revisions to the schedule will be made as appropriate.

Issue Notice of Acceptance | January 2013.
Issue Scoping Document 1 for comments | February 2013.
Comments on Scoping Document 1 | April 2013.
Issue Scoping Document 2 | April 2013.
Issue notice of ready for environmental analysis | July 2013.
Commission staff issues EA | January 2014.
Comments due on EA | February 2014.

Final amendments to the applications must be filed with the Commission no later than 30 days from the issuance date of the notice of ready for environmental analysis.

Dated: November 9, 2012.
Kimberly D. Bose,
Secretary.

[FR Doc. 2012-27961 Filed 11-15-12; 8:45 am]

BILLING CODE 6717-01-P